DEPARTMENT OF HEALTH AND HUMAN SERVICES

Centers for Disease Control and Prevention

[30Day-24-0214]

Agency Forms Undergoing Paperwork Reduction Act Review

In accordance with the Paperwork Reduction Act of 1995, the Centers for Disease Control and Prevention (CDC) has submitted the information collection request titled “National Health Interview Survey (NHIS)” to the Office of Management and Budget (OMB) for review and approval. CDC previously published a “Proposed Data Collection Submitted for Public Comment and Recommendations” notice on August 21, 2023 to obtain comments from the public and affected agencies. CDC receive three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Health Interview Survey (NHIS) (OMB Control No. 0920-0214, Exp. 12/31/2023)—Revision—National Center for Health Statistics (NCHS), Centers for Disease Control and Prevention (CDC).

Background and Brief Description

Section 306 of the Public Health Service (PHS) Act (42 U.S.C.), as amended, authorizes that the Secretary of Health and Human Services (HHS), acting through NCHS, shall collect statistics on the extent and nature of illness and disability of the population of the United States. The annual National Health Interview Survey (NHIS) is a major source of general statistics on the health of the U.S. population and has been in the field continuously since 1957. This voluntary and confidential household-based survey collects demographic and health-related information from a nationally representative sample of households and noninstitutionalized, civilian persons throughout the country. NHIS data have long been used by government, academic, and private researchers to evaluate both general health and specific issues, such as smoking, diabetes, health care coverage, and access to health care. The survey is also a leading source of data for the Congressionally mandated “Health US” and related publications, as well as the single most important source of statistics to track progress toward HHS health objectives.

The NHIS sample adult and sample child questionnaires include annual core content that is scheduled to be fielded in the survey every year, rotating content that is fielded periodically, emerging content to address new topics of growing interest, and sponsored content that is fielded when external funding is available. Rotating sample adult and sample child core content on service utilization that was on the NHIS in 2023 will rotate off in 2024. Content on chronic pain and preventive services will also rotate off the sample adult core, and content on stressful life events will rotate off the sample child core. The 2024 sample adult rotating core will include items on health-related behaviors including smoking history and cessation, alcohol use, fatigue, physical activity, walking, doctor's advice to exercise, and sleep—content previously fielded on the 2022 NHIS. It will also include content on allergies and other health conditions and psychological distress, content that was previously fielded in 2021. The 2024 sample child rotating core will include questions on allergies and other conditions and health-related behaviors including physical activity, neighborhood characteristics, sleep, screen time, and height and weight which were previously fielded in 2022. Sponsored content on vision and hearing will be removed from both the sample adult and sample child questionnaires. Sponsored content on arthritis will be removed from the sample adult questionnaire. Sponsored content on social support and stressful life events will be removed from the sample child questionnaire. Sponsored content on cancer control and immunizations will remain, but the specific questions will change. Sponsored cancer control content on breast, prostate, and colorectal cancer screening, family history of cancers, and genetic testing for cancer risk will be removed from the sample adult questionnaire. Sponsored cancer control content in the 2024 NHIS sample adult questionnaire will focus on cigarette smoking history, lung cancer screening, environment for walking, and sun safety, using similar questions that were used in the 2020 NHIS. Sponsored content for the 2024 NHIS sample adult and sample child questionnaire will also include questions about taste and smell that are similar to content included in the 2021 NHIS. Sponsored content on social support and loneliness will also be added to the 2024 NHIS sample adult questionnaire. Emerging content on everyday discrimination, heightened vigilance, and mental health has been removed from the sample adult questionnaire. Emerging content on GLP-1 injectables has been added to the sample adult questionnaire.

Like in past years, and in accordance with the 1995 initiative to increase the integration of surveys within the DHHS, respondents to the 2021 NHIS will serve as the sampling frame for the Medical Expenditure Panel Survey conducted by the Agency for Healthcare Research and Quality. A subsample of NHIS respondents and/or members of commercial survey panels may be identified to participate in short, web-based methodological and cognitive testing activities to evaluate the questionnaire and/or inform the development of new rotating and sponsored content using web and/or mail survey tools. In addition, subsamples of NHIS respondents may be recontacted by web, phone, or mail to ask follow-up questions on topics that are already included in the NHIS. The NHIS-Teen is a follow-back survey of adolescents that was fielded from 2021 to 2023 and may be fielded again in 2025 and 2026 if funding is available. The NHIS also includes content that is used to benchmark estimates and calibrate survey weights from probability-based online commercial survey panels as part of the NCHS Rapid Surveys System.

CDC requests OMB clearance for three years, to collect data through 2026. The total estimated annualized burden is 39,192 hours. There is no cost to the respondents other than their time.

Estimated Annualized Burden Hours
Type of Respondents | Form Name | Number of respondents | Number of responses per respondent | Average burden per response (in hours)
Adult Household Member | Household Roster | 36,000 | 1 | 4/60
Sample Adult | Adult Questionnaire | 33,000 | 1 | 50/60
Adult Family Member | Child Questionnaire | 10,000 | 1 | 22/60
Adult Family Member | Methodological Projects | 15,000 | 1 | 20/60
Sample Child | NHIS-Teen | 667 | 1 | 15/60
Adult Family Member | Reinterview Survey | 5,500 | 1 | 5/60

Jeffrey M. Zirger,
Lead, Information Collection Review Office, Office of Public Health Ethics and Regulations, Office of Science, Centers for Disease Control and Prevention.

[FR Doc. 2023-25084 Filed 11-13-23; 8:45 am]

BILLING CODE 4163-18-P